DEPARTMENT OF TRANSPORTATION

National Highway Traffic Safety Administration

[Docket No. NHTSA-2004-17022]

Notice of Receipt of Petition for Decision That Nonconforming 1997 Land Rover Defender 90 Multipurpose Passenger Vehicles Are Eligible for Importation

AGENCY: National Highway Traffic Safety Administration, DOT.

ACTION: Notice of receipt of petition for decision that nonconforming 1997 Land Rover Defender 90 multipurpose passenger vehicles (MPVs) are eligible for importation.

SUMMARY: This document announces receipt by the National Highway Traffic Safety Administration (NHTSA) of a petition for a decision that 1997 Land Rover Defender 90 MPVs that were not originally manufactured to comply with all applicable Federal motor vehicle safety standards are eligible for importation into the United States because (1) they are substantially similar to vehicles that were originally manufactured for importation into and sale in the United States and that were certified by their manufacturer as complying with the safety standards, and (2) they are capable of being readily altered to conform to the standards.

DATES: The closing date for comments on the petition is March 15, 2004.

ADDRESSES: Comments should refer to the docket number and notice number, and be submitted to: Docket Management, Room PL-401, 400 Seventh St., SW., Washington, DC 20590. [Docket hours are from 9 a.m. to 5 p.m.]. Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FOR FURTHER INFORMATION CONTACT: Coleman Sachs, Office of Vehicle Safety Compliance, NHTSA, 202-366-3151.

SUPPLEMENTARY INFORMATION:

Background

Under 49 U.S.C. 30141(a)(1)(A), a motor vehicle that was not originally manufactured to conform to all applicable Federal motor vehicle safety standards shall be refused admission into the United States unless NHTSA has decided that the motor vehicle is substantially similar to a motor vehicle of the same model year that was originally manufactured for importation into and sale in the United States and certified under 49 U.S.C. 30115, and that the vehicle is capable of being readily altered to conform to all applicable Federal motor vehicle safety standards.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

Barry W. Taylor Enterprises, Inc. of Richmond, California (“BTE”) (Registered Importer 01-280) has petitioned NHTSA to decide whether 1997 Land Rover Defender 90 MPVs are eligible for importation into the United States. The vehicles that BTE believes are substantially similar are 1997 Land Rover Defender 90 MPVs that were manufactured for importation into, and sale in, the United States and certified by their manufacturer as conforming to all applicable Federal motor vehicle safety standards.

The petitioner claims that it carefully compared non-U.S. certified 1997 Land Rover Defender 90 MPVs to their U.S.-certified counterparts, and found the vehicles to be substantially similar with respect to compliance with most Federal motor vehicle safety standards.

BTE submitted information with its petition intended to demonstrate that non-U.S. certified 1997 Land Rover Defender 90 MPVs, as originally manufactured, conform to many Federal motor vehicle safety standards in the same manner as their U.S.-certified counterparts, or are capable of being readily altered to conform to those standards.

Specifically, the petitioner claims that non-U.S. certified 1997 Land Rover Defender 90 MPVs are identical to their U.S.-certified counterparts with respect to compliance with Standard Nos. 102 Transmission Shift Lever Sequence, 103 Defrosting and Defogging Systems, 104 Windshield Wiping and Washing Systems, 105 Hydraulic and Electric Brake Systems, 106 Brake Hoses, 113 Hood Latch Systems, 114 Theft Protection, 116 Brake Fluid, 124 Accelerator Control Systems, 202 Head Restraints, 203 Impact Protection for the Driver from the Steering Control System, 204 Steering Control Rearward Displacement, 205 Glazing Materials, 206 Door Locks and Door Retention Components, 207 Seating Systems, 210 Seat Belt Assembly Anchorages, 212 Windshield Retention, 216 Roof Crush Resistance, 219 Windshield Zone Intrusion, and 302 Flammability of Interior Materials.

Petitioner states that the vehicle is equipped with a vehicle identification number plate that complies with the requirements of 49 CFR part 565 and with bumpers identical to those found on its U.S.-certified counterpart that meet the requirements of the Bumper Standard found in 49 CFR part 581. Petitioner observes that the vehicle is not subject to the Theft Prevention Standard found in 49 CFR part 541.

Petitioner also contends that the vehicle is capable of being readily altered to meet the following standards, in the manner indicated:

Standard No. 101 Controls and Displays: (a) Replacement or conversion of the speedometer to read in miles per hour; (b) inspection of all vehicles to ensure that components subject to the standard are identical to those found on the vehicle's U.S.-certified counterpart.

Standard No. 108 Lamps, Reflective Devices and Associated Equipment: (a) Installation of U.S.-model headlights; (b) modification of the amber sidemarker lights to meet the requirements of the standard; (c) inspection of all vehicles and replacement of noncompliant lighting system components with U.S-model parts on vehicles that are not already so equipped.

Standard No. 111 Rearview Mirror: Inscription of the required warning statement on the face of the passenger side rearview mirror, or replacement of the mirror with one that is already so marked.

Standard No. 118 Power Window Systems: Inspection of all vehicles and modification of the wiring system, where necessary, to ensure compliance with the standard.

Standard No. 119 New Pneumatic Tires for Vehicles other than Passenger Cars: Inspection of all vehicles to ensure compliance with the standard.

Standard No. 120 Tire Selection and Rims for Vehicles other than Passenger Cars: Inspection of all vehicles to ensure compliance with the standard. The petitioner asserts that the tires and rims on the non-U.S. certified vehicle it has examined are properly marked.

Standard No. 201 Occupant Protection in Interior Impact: Inspection of all vehicles and replacement of any components subject to the standard that are not identical to those found on the vehicle's U.S.-certified counterpart. The petitioner asserts that those components on the non-U.S. certified vehicle it has examined are identical to those found on the vehicle's U.S.-certified counterpart.

Standard No. 208 Occupant Crash Protection: Inspection of all vehicles and modification, as necessary, to ensure compliance with the standard. The petitioner asserts that the occupant crash protection system on the non-U.S. certified vehicle it has examined is identical to that found on the vehicle's U.S.-certified counterpart.

Standard No. 209 Seat Belt Assemblies: Inspection of all vehicles and modification, as necessary, to ensure compliance with the standard. The petitioner asserts that the seat belt assemblies on the non-U.S. certified vehicle it has examined are in compliance with the standard.

Standard No. 214 Side Impact Protection: Inspection of all vehicles and modification, as necessary, to ensure compliance with the standard. The petitioner asserts that the door beams on the non-U.S. certified vehicle it has examined are identical to those found on the vehicle's U.S.-certified counterpart.

Standard No. 301 Fuel System Integrity: Installation of an OEM rollover valve to meet the requirements of the standard.

The petitioner states that a certification label must be affixed to the driver's side door pillar to meet the requirements of the vehicle certification regulations in 49 CFR part 567.

Interested persons are invited to submit comments on the petition described above. Comments should refer to the docket number and be submitted to: Docket Management, Room PL-401, 400 Seventh St., SW., Washington, DC 20590. [Docket hours are from 9 a.m. to 5 p.m.]. It is requested but not required that 10 copies be submitted.

All comments received before the close of business on the closing date indicated above will be considered, and will be available for examination in the docket at the above address both before and after that date. To the extent possible, comments filed after the closing date will also be considered. Notice of final action on the petition will be published in the Federal Register pursuant to the authority indicated below.

Authority: 49 U.S.C. 30141(a)(1)(A) and (b)(1); 49 CFR 593.8; delegations of authority at 49 CFR 1.50 and 501.8.

Issued on February 9, 2004.
Kenneth N. Weinstein,
Associate Administrator for Enforcement.

[FR Doc. 04-3118 Filed 2-11-04; 8:45 am]

BILLING CODE 4910-59-P